DEPARTMENT OF LABOR

Office of the Secretary

Submission for OMB Review; Comment Request

ACTION: Submission for OMB Review; Comment Request.

SUMMARY: The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including, among other things, a description of the likely respondents, proposed frequency of response, and estimated total burden may be obtained from the RegInfo.gov Web site at http://www.reginfo.gov/public/do/PRAMain or by contacting Linda Watts Thomas on 202-693-4223 (this is not a toll-free number) and e-mail mail to: DOL_PRA_PUBLIC@dol.gov.

Interested parties are encouraged to send written comments to the Office of Information and Regulatory Affairs, Attn: OMB Desk Officer for the Department of Labor—Bureau of Labor Statistics (BLS), Room 10235, Washington, DC 20503, Telephone: 202-395-7316/Fax 202-395-5806 (these are not toll-free numbers), E-mail: OIRA_submission@omb.eop.gov within 30 days from the date of this publication in the Federal Register. In order to ensure the appropriate consideration, comments should reference the applicable OMB Control Number (see below).

The OMB is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Agency: Bureau of Labor Statistics.

Type of Review: Revision of a currently approved collection.

Title of Collection: Survey of Occupational Injuries and Illnesses.

OMB Control Number: 1220-0045.

Affected Public: Businesses or other for-profits; Not-for-profit institutions; Farms; State, Local or Tribal Governments.

Frequency: Annually.

Estimated Number of Respondents: 240,000.

Total Number of Responses: 240,000.

Total Burden Hours: 350,266.

Total Hour Burden Cost (operating/maintaining): $0.

Description: The Survey of Occupational Injuries and Illnesses is the primary indicator of the Nation's progress in providing every working man and woman safe and healthful working conditions. The survey produces the overall rate of occurrence of work injuries and illnesses by industry which can be compared to prior years to produce measures of the rate of change. Survey data are used to evaluate the effectiveness of the Federal and State programs for improving work place safety and health and to prioritize scarce resources. For additional information, see related notice published in the Federal Register on April 16, 2010, (Vol. 75, page 20004).

Dated: August 10, 2010.
Linda Watts Thomas,
Acting Departmental Clearance Officer.

[FR Doc. 2010-20164 Filed 8-13-10; 8:45 am]

BILLING CODE 4510-24-P